DEPARTMENT OF ENERGY

Federal Energy Regulatory Commission

Combined Notice of Filings #1

Take notice that the Commission received the following exempt wholesale generator filings:

Docket Numbers: EG16-56-000.

Applicants: Red Horse III, LLC.

Description: Notice of Self-Certification of Exempt Wholesale Generator Status of Red Horse III, LLC.

Filed Date: 2/23/16.

Accession Number: 20160223-5123.

Comments Due: 5 p.m. ET 3/15/16.

Docket Numbers: EG16-57-000.

Applicants: 62SK 8ME LLC.

Description: Notice of Self-Certification of Exempt Wholesale Generator Status of 62SK 8ME LLC.

Filed Date: 2/23/16.

Accession Number: 20160223-5126.

Comments Due: 5 p.m. ET 3/15/16.

Take notice that the Commission received the following electric rate filings:

Docket Numbers: ER16-984-000.

Applicants: Pacific Gas and Electric Company.

Description: § 205(d) Rate Filing: PG&E UOG SGIA and LGIA Revisions to be effective 4/25/2016.

Filed Date: 2/22/16.

Accession Number: 20160222-5184.

Comments Due: 5 p.m. ET 3/14/16.

Docket Numbers: ER16-985-000.

Applicants: Arizona Public Service Company.

Description: § 205(d) Rate Filing: Limited Section 205 Filing—IRS Normalization ADIT to be effective 4/23/2016.

Filed Date: 2/22/16.

Accession Number: 20160222-5210.

Comments Due: 5 p.m. ET 3/14/16

Docket Numbers: ER16-986-000.

Applicants: The Narragansett Electric Company.

Description: § 205(d) Rate Filing: Cost Reimbursement Agreement between Narragansett & CV South Street Landing LLC to be effective 2/19/2016.

Filed Date: 2/22/16.

Accession Number: 20160222-5224.

Comments Due: 5 p.m. ET 3/14/16.

Docket Numbers: ER16-987-000.

Applicants: Wisconsin Power and Light Company.

Description: § 205(d) Rate Filing: Amended WPL-MGE LBAOCA Agreement to be effective 2/22/2016.

Filed Date: 2/22/16.

Accession Number: 20160222-5225.

Comments Due: 5 p.m. ET 3/14/16.

Docket Numbers: ER16-988-000.

Applicants: Duke Energy Florida, LLC.

Description: § 205(d) Rate Filing: City of Chattahoochee NITSA OATT SA No. 154 to be effective 3/1/2016.

Filed Date: 2/23/16.

Accession Number: 20160223-5033.

Comments Due: 5 p.m. ET 3/15/16.

Docket Numbers: ER16-989-000.

Applicants: Southern California Edison Company.

Description: § 205(d) Rate Filing: Market-Based Rates Tariff 2015 Update to be effective 4/24/2016.

Filed Date: 2/23/16.

Accession Number: 20160223-5043.

Comments Due: 5 p.m. ET 3/15/16.

Docket Numbers: ER16-990-000.

Applicants: Avista Corporation.

Description: § 205(d) Rate Filing: Avista Corp NITSA Low Voltage Facilities Chgs to be effective 4/1/2016.

Filed Date: 2/23/16.

Accession Number: 20160223-5074.

Comments Due: 5 p.m. ET 3/15/16.

Take notice that the Commission received the following electric reliability filings:

Docket Numbers: RR15-2-003.

Applicants: North American Electric Reliability Corporation.

Description: Annual Compliance Monitoring and Enforcement Program Filing of North American Electric Reliability Corporation.

Filed Date: 2/18/16.

Accession Number: 20160218-5218.

Comments Due: 5 p.m. ET 3/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2016.
Nathaniel J. Davis, Sr.,
Deputy Secretary.

[FR Doc. 2016-04386 Filed 2-29-16; 8:45 am]

BILLING CODE 6717-01-P